DEPARTMENT OF THE INTERIOR

Fish and Wildlife Service

[FWS-R8-ES-2009-N237; 80221-1113-0000-C2]

Draft Recovery Plan for Tidal Marsh Ecosystems of Northern and Central California

AGENCY: Fish and Wildlife Service, Interior.

ACTION: Notice of document availability for review and comment.

SUMMARY: We, U.S. Fish and Wildlife Service (Service), announce the availability of a draft recovery plan for Tidal Marsh Ecosystems of Northern and Central California for public review and comment. This draft recovery plan is an expansion and revision of our 1984 California Clapper Rail and Salt Marsh Harvest Mouse Recovery Plan. The plan also addresses several federally endangered plant species: Cirsium hydrophilum var. hydrophilum (Suisun thistle), Cordylanthus mollis ssp. mollis (soft bird's-beak), Suaeda californica (California sea-blite), and the Morro Bay portion of Cordylanthus maritimus ssp. maritimus (salt marsh bird's-beak).

DATES: To ensure consideration, please send your written comments by June 10, 2010.

ADDRESSES: Copies of the draft recovery plan are available by request from the U.S. Fish and Wildlife Service, Sacramento Fish and Wildlife Office, 2800 Cottage Way, Rm. W-2605, Sacramento, CA 95825 (telephone: 916-414-6600). An electronic copy of the draft recovery plan is also available at http://endangered.fws.gov/recovery/index.html#plans.

FOR FURTHER INFORMATION CONTACT: Josh Hull, Recovery Branch Chief, at the above address or telephone number.

SUPPLEMENTARY INFORMATION:

Background

Recovery of endangered or threatened animals and plants is a primary goal of the Endangered Species Act (Act) (16 U.S.C. 1531 et seq.) and our endangered species program. Recovery means improvement of the status of listed species to the point at which listing is no longer required under the criteria set out in section 4(a)(1) of the Act. Recovery plans describe actions considered necessary for the conservation of the species, establish criteria for downlisting or delisting listed species, and estimate time and cost for implementing the measures needed for recovery. The Draft Recovery Plan for Tidal Marsh Ecosystems of Northern and Central California features five endangered species. The biology of these species is at the core of the draft recovery plan, but the goal of this recovery planning effort is the comprehensive restoration and management of tidal marsh ecosystems.

This draft recovery plan is an expansion and revision of The California Clapper Rail and Salt Marsh Harvest Mouse Recovery Plan (Service 1984). Since that time a great deal of effort has been dedicated to recovery and conservation activities, and additional information has been obtained through research and observation that allows us to better focus our recovery strategy. The historic distribution of the California clapper rail encompasses major tidal salt marshes between Humboldt Bay and, arguably, Morro Bay. This distribution defines the approximate geographic scope of this draft recovery plan.

The plan also covers three federally endangered plant species and the northernmost population of an additional federally endangered plant species. Two of the species, Cirsium hydrophilum var. hydrophilum (Suisun thistle) and Cordylanthus mollis ssp. mollis (soft bird's-beak), are restricted to the northern reaches of the San Francisco Bay Estuary. The other endangered tidal marsh plant, Suaeda californica (California sea-blite), historically occurred in both San Francisco Bay and Morro Bay; however, except for three reintroductions to San Francisco Bay, it is now restricted to Morro Bay. Another federally listed plant, Cordylanthus maritimus ssp. maritimus (salt marsh bird's-beak), has its northern range limit in Morro Bay. Morro Bay was omitted from the Salt Marsh Bird's Beak Recovery Plan (Service 1985a) because the taxonomic interpretation at the time classified this population in another subspecies that is not federally listed. The current taxonomy includes the Morro Bay population as Cordylanthus maritimus ssp. maritimus. It is included in this draft recovery plan due to its colocation with Suaeda californica in Morro Bay. Recovery strategies and actions are provided for the Morro Bay population of Cordylanthus maritimus ssp. maritimus. However, because we do not consider the entire range of the species in this document, recovery criteria have not been included. This draft recovery plan also addresses 11 species of concern: The salt marsh wandering shrew (Sorex vagrans halicoetes), Suisun shrew (Sorex ornatus sinuosus), San Pablo vole (Microtus californicus sanpabloensis), California black rail (Laterallus jamaicensis coturniculus), three song sparrow subspecies of the San Francisco Bay Estuary (Melospiza melodia spp.), saltmarsh common yellowthroat (Geothlypis trichas sinuosa), old man tiger beetle (Cicindela senilis senilis), Lathryrus jepsonii ssp. jepsonii (delta tule pea), and Spartina foliosa (Pacific cordgrass).

Species included in this draft recovery plan occur in a variety of tidal marsh habitats, where they are limited by the requirements of moisture, salinity, topography, soil types, and climatic conditions. Adjacent uplands and ecotone areas are also crucial habitats for many of these species. Primary threats to all the listed species include:

(1) Historical and current habitat loss and fragmentation due to urban development, agriculture, and diking related to duck hunting;

(2) Altered hydrology and salinity;

(3) Nonnative invasive species;

(4) Inadequate regulatory mechanisms;

(5) Disturbance;

(6) Contamination;

(7) Sea-level rise due to climate change; and

(8) Risk of extinction due to vulnerability of small populations in the face of random naturally occurring events.

We expect that the following species recovery objectives will be met:

(1) Secure self-sustaining wild populations of each covered species throughout their full ecological, geographical, and genetic ranges;

(2) Ameliorate or eliminate the threats, to the extent possible, that caused the species to be listed or of concern and any future threats; and

(3) Restore and conserve a healthy ecosystem function supportive of tidal marsh species.

These objectives will be accomplished through implementation of a variety of recovery measures, including habitat acquisition, protection, management and restoration; species status surveys/monitoring; research; and stakeholder coordination, public participation, and outreach.

Request for Public Comments

We request written comments on the draft recovery plan. All comments received by the date specified in DATES will be considered prior to approval of this plan. If you wish to comment, you may submit your comments and materials concerning this recovery plan by one of these methods:

1. You may submit written comments and information by mail or facsimile or in person to the Sacramento Fish and Wildlife Office at the above address (see ADDRESSES).

2. You may send comments by electronic mail (e-mail) to: R8TM_RP_CA@fws.gov. If you submit comments by e-mail, please submit them as an ASCII file and avoid the use of special characters and any form of encryption. Please also include your name and return address in your e-mail message.

Comments and materials received, as well as supporting documentation used in preparation of the recovery plan, will be available for inspection, during normal business hours at the above Sacramento address (see ADDRESSES).

We specifically seek comments on the following:

(1) Biological, commercial trade, or other relevant data concerning any threat (or lack thereof) to the species;

(2) Feedback on the durability of the science regarding climate change and its treatment presented in the draft recovery plan and comments on how best to ameliorate threats to the species in that regard;

(3) Additional information concerning the range, distribution, and population size of these species, including the location of any additional populations;

(4) Current or planned activities in the subject area and their possible impacts on these species; and

(5) The suitability and feasibility of the recovery criteria, strategies, or actions described in the Draft Plan.

Public Availability of Comments

Before including your address, phone number, e-mail address, or other personal identifying information in your comment, you should be aware that your entire comment—including your personal identifying information—may be made publicly available at any time. While you can ask us in your comment to withhold your personal identifying information from public review, we cannot guarantee that we will be able to do so.

Authority

The authority for this action is section 4(f) of the Endangered Species Act, 16 U.S.C. 1533(f).

Alexandra Pitts,
Regional Director, Region 8, U.S. Fish and Wildlife Service.

[FR Doc. 2010-2279 Filed 2-9-10; 8:45 am]

BILLING CODE 4310-55-P